DEPARTMENT OF STATE

[Delegation of Authority No. 396]

Authority To Waive Section 907 of the FREEDOM Support Act

By virtue of the authority vested in the Secretary of State by the State Department Basic Authorities Act of 1956 (22 U.S.C. 2651a); the Assistance for the Independent States of the Former Soviet Union heading under Title II of the Foreign Operations, Export Financing and Related Programs Appropriations Act, 2002 (Pub. L. 107-115), as delegated pursuant to E.O. 12163, as amended by E.O. 13346; and delegated to me pursuant to Delegation of Authority 245-1, dated February 13, 2009, I hereby delegate to the Under Secretary for Political Affairs, to the extent authorized by law, the authority to make the determinations and certification to extend the waiver of section 907 of the FREEDOM Support Act of 1992 (Pub. L. 102-511) with respect to Azerbaijan.

Any actions related to the functions described herein that may have been taken prior to the date of this delegation are hereby confirmed and ratified. Such actions shall remain in force as if taken under this delegation of authority, unless or until such actions are rescinded, amended, or superseded.

The authority delegated herein may also be exercised by the Secretary, the Deputy Secretary, and the Deputy Secretary for Management and Resources.

This delegation of authority will terminate on March 21, 2017. This delegation of authority does not supersede or otherwise affect any other delegation of authority currently in effect.

This delegation shall be published in the Federal Register.

Dated: May 31, 2016.
Antony Blinken,
Deputy Secretary of State.

[FR Doc. 2016-14504 Filed 6-17-16; 8:45 am]

BILLING CODE 4710-23-P